POSTAL REGULATORY COMMISSION

39 CFR Part 3045

[Docket No. RM2019-13; Order No. 5407]

Reorganization of Postal Regulatory Commission Rules; Correction

AGENCY: Postal Regulatory Commission.

ACTION: Correcting amendment.

SUMMARY: On April 20, 2020, the Postal Regulatory Commission revised Commission rules. That document incorrectly listed a cross-reference. This document corrects the final regulations by removing the incorrect cross-reference.

DATES: Effective on May 15, 2020.

FOR FURTHER INFORMATION CONTACT: David A. Trissell, General Counsel, at 202-789-6820.

SUPPLEMENTARY INFORMATION: The rule published on April 20, 2020 (85 FR 9614), incorrectly listed a cross-reference in § 3045.18(d)(2)(i)(B), and this document corrects the final regulations by removing that incorrect cross-reference.

List of Subjects in 39 CFR Part 3045

Administrative practice and procedure, Postal Service.

Accordingly, 39 CFR part 3045 is corrected by making the following correcting amendment:

PART 3045—RULES FOR MARKET TESTS OF EXPERIMENTAL PRODUCTS

1. The authority for part 3045 continues to read as follows:

Authority: 39 U.S.C. 503; 3641.

2. Amend § 3045.18 by revising paragraph (d)(2)(i)(B) to read as follows:

§ 3045.18 Request to add a non-experimental product or price category based on an experimental product to the product list.

* * * * *

(d) * * *

(2)(i) * * *

(B) The market test is expected to exceed any authorized limitation specified in §§ 3045.15 and 3045.16 during any fiscal year, whichever is earlier.

* * * * *

By the Commission.
Erica A. Barker,
Secretary.

[FR Doc. 2020-09023 Filed 5-14-20; 8:45 am]

BILLING CODE 7710-FW-P